DEPARTMENT OF AGRICULTURE

Forest Service

Notice of Idaho Panhandle Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Idaho Panhandle National Forests' Idaho Panhandle Resource advisory Committee will meet Friday, June 21, 2002 at 9:30 am in Sandpoint, Idaho for a business meeting and a fieldtrip. The business meeting is open to the public.

DATES: June 21, 2002.

ADDRESSES: The meeting location is the Idaho Panhandle National Forests' Sandpoint District Office, located at 1500 Hwy 2, Suite 110, Sandpoint, Idaho 83864.

FOR FURTHER INFORMATION CONTACT: Ranotta K. McNair, Forest Supervisor and Designated Federal Officer, at (208) 765-7369.

SUPPLEMENTARY INFORMATION: Public Forum begins at 9:30 am. The fieldtrip will view future project proposals.

Dated: June 3, 2002
Ranotta K. McNair,
Forest Supervisor.

[FR Doc. 02-14453 Filed 6-6-02; 8:45 am]

BILLING CODE 3410-11-M